DEPARTMENT OF TRANSPORTATION

Federal Aviation Administration

14 CFR Parts 23, 25, 27, 29, 91, 121, 125, 129 and 135

[Docket No. FAA-2005-20245; Notice No. 23-56, 25-118, 27-41, 29-48, 91-286, 121-308, 125-47, 129-40 and 135-95]

RIN 2120-AH88

Revisions to Cockpit Voice Recorder and Digital Flight Data Recorder Regulations

AGENCY: Federal Aviation Administration (FAA), DOT.

ACTION: Notice of proposed rulemaking (NPRM); extension of comment period.

SUMMARY: This action extends the comment period for an NPRM published on February 28, 2005. In that document, the FAA proposed to amend the cockpit voice recorder and digital flight data recorder regulations for certain air carriers, operators, and aircraft manufacturers. This extension is a result of a request from the Aerospace Industries Association to extend the comment period for the NPRM.

DATES: Send your comments on or before June 28, 2005.

ADDRESSES: You may send comments [identified by Docket Number FAA-2005-20245] using any of the following methods:

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

FOR FURTHER INFORMATION CONTACT: Timothy W. Shaver, Avionics Systems Branch, Aircraft Certification Service, AIR-130, Federal Aviation Administration, 800 Independence Avenue, SW., Washington, DC 20591; telephone (202) 385-4686; facsimile (202) 385-4651; e-mail tim.shaver@faa.gov.

SUPPLEMENTARY INFORMATION:

Comments Invited

The FAA continues to invite interested persons to take part in this rulemaking by submitting written comments, data, or views about the NPRM we issued on February 28, 2005 (Revisions to Cockpit Voice Recorder and Digital Flight Data Recorder Regulations (70 FR 9752) (February 28, 2005). We also invite comments about the economic, environmental, energy, or federalism impacts that might result from adopting the proposals in that document. The most helpful comments reference a specific portion of the NPRM, explain the reason for any recommended change, and include supporting data. We ask that you send us two copies of written comments.

Background

On February 28, 2005, the Federal Aviation Administration (FAA) issued Notice No. 23-56, 25-118, 27-41, 29-48, 91-286, 121-308, 125-47, 129-40 and 135-95, Revisions to Cockpit Voice Recorder and Digital Flight Data Recorder Regulations (70 FR 9752) (February 28, 2005) (“NPRM”). The comment period for the NPRM ends on April 29, 2005.

By letter dated April 1, 2005, the Aerospace Industries Association (AIA) asks the FAA to extend the NPRM's comment period by thirty days. AIA believes extensive coordination is necessary with the suppliers of “Buyer Furnished Equipment (BFE)” and “Supplier Furnished Equipment (SFE)” because of the significant and complex contents of the NPRM. AIA states an extension is necessary to provide a meaningful, thorough set of comments.

The FAA agrees with AIA's request for an extension of the comment period. We recognize the NPRM's contents are significant and complex and that a sixty-day comment period is insufficient. We also believe that additional requests for extensions will be filed shortly based on the lack of comments from those entities that will be affected by the proposals in the NPRM.

We have determined that an additional sixty days will be enough for potential commenters to collect the cost and operational data necessary to provide meaningful comments to the NPRM. Absent unusual circumstances, the FAA does not anticipate any further extension of the comment period for this rulemaking.

Extension of Comment Period

In accordance with 14 CFR 11.47(c), the FAA has reviewed the petition submitted by Aerospace Industries Association (AIA) for an extension of the comment period to the NPRM. The FAA finds that an extension of the comment period for Notice No. 23-56, 25-118, 27-41, 29-48, 91-286, 121-308, 125-47, 129-40 and 135-95 is consistent with the public interest, and that good cause exists for taking this action. The FAA also has determined that AIA has a substantive interest in the proposed rule and has shown good cause for the extension.

Accordingly, the comment period for Notice No. 23-56, 25-118, 27-41, 29-48, 91-286, 121-308, 125-47, 129-40 and 135-95 is extended until June 28, 2005.

Issued in Washington, DC, on April 21, 2005.
John J. Hickey,
Director, Aircraft Certification Service.

[FR Doc. 05-8457 Filed 4-26-05; 8:45 am]

BILLING CODE 4910-13-P